DEPARTMENT OF JUSTICE

Bureau of Alcohol, Tobacco, Firearms and Explosives

[OMB Number 1140-0066]

Agency Information Collection Activities; Proposed eCollection eComments Requested; Revision of a Currently Approved Collection; Manufacturers of Ammunition, Records and Supporting Data of Ammunition Manufactured and Disposed of

AGENCY: Bureau of Alcohol, Tobacco, Firearms and Explosives, Department of Justice

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0066 (Manufacturers of Ammunition, Records and Supporting Data of Ammunition Manufactured and Disposed of) is being revised due to a change in burden, since there is an increase in the number of responses to this information collection, which has also caused an increase in the total collection burden hours.

DATES: Comments are encouraged and will be accepted for 60 days until April 22, 2019.

FOR FURTHER INFORMATION CONTACT: If you have additional comments, regarding the estimated public burden or associated response time, suggestions, or need a copy of the proposed information collection instrument with instructions, or additional information, please contact: Jason Gluck, ATF Firearms Industry Programs Branch, either by mail at 99 New York Ave. NE, Washington, DC 20226, by email at Fipb-informationcollection@atf.gov, or by telephone at 202-648-7190.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Manufacturers of Ammunition, Records and Supporting Data of Ammunition Manufactured and Disposed of.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): None.

Abstract: The manufacturer's records are used by ATF in criminal investigations and compliance inspections, to fulfill the Bureau's mission to enforce the Gun Control Law.

5. An estimate of the total number of respondents and the amount of time estimated for an average respondent to respond: About half of an estimated 376 respondents may utilize this information collection to provide a total 188 responses, and it will take each respondent 2 minutes to provide their response.

6. An estimate of the total public burden (in hours) associated with the collection: The estimated annual public burden associated with this collection is 6.2 (6) hours, which is equal to 376 (total # of respondents) * .5 (total # of responses per respondents) * .033 (2 minutes).

7. An Explanation of the Change in Estimates: The changes in burden are due to an increase in the number of responses to this collection from 159 during the last renewal in 2016, to 188 currently. Consequently, the burden hours for this information collection has also increased slightly from 5 to 6.2 (6) hours respectively.

If additional information is required contact: Melody Braswell, Department Clearance Officer, United States Department of Justice, Justice Management Division, Policy and Planning Staff, Two Constitution Square, 145 N Street NE, 3E.405A, Washington, DC 20530.

Dated: February 15, 2019.
Melody Braswell,
Department Clearance Officer for PRA, U.S. Department of Justice.

[FR Doc. 2019-02935 Filed 2-20-19; 8:45 am]

BILLING CODE 4410-FY-P